DEPARTMENT OF TRANSPORTATION

Pipeline and Hazardous Materials Safety Administration

[Docket No. PHMSA-2019-0098; Notice No. 2019-05]

Hazardous Materials; Lithium Battery Safety Advisory Committee Nominations

AGENCY: Pipeline and Hazardous Materials Safety Administration (PHMSA), Department of Transportation (DOT).

ACTION: Request for Member Nominations for the Lithium Battery Safety Advisory Committee.

SUMMARY: PHMSA is seeking nominations for individuals to serve as members on the Lithium Battery Safety Advisory Committee (the Committee). This is a safety advisory committee mandated by section 333(d) of the FAA Reauthorization Act of 2018 and established in accordance with the Federal Advisory Committee Act (FACA) of 1972. The committee will facilitate communication among manufacturers of lithium ion and lithium metal cells and batteries, manufacturers of products incorporating both large and small lithium ion and lithium metal batteries, air carriers, and the Federal Government. This communication will promote the safe transportation of lithium ion and lithium metal cells and batteries and improve the effectiveness and economic and social impacts of related regulation. No later than 180 days after the establishment of the Committee, the Committee shall submit to the Secretary and the appropriate committees of Congress a report that describes and evaluates the steps being taken in the private sector and by international regulatory authorities to implement and enforce requirements relating to the safe transportation of bulk shipments of lithium ion cells and batteries. The Committee will also identify any areas of regulatory requirements for which there is consensus that greater attention is needed.

DATES: Nominations must be received on or before June 4, 2019.

ADDRESSES: All nomination material should be emailed to the Advisory Committee's Program Manager, Lindsey Constantino, at lithiumbatteryFACA@dot.gov or mailed to the Pipeline and Hazardous Materials Safety Administration, 1200 New Jersey Avenue SE, PHH-4, E23- 442, Washington, DC 20590, to the attention of Lindsey Constantino, Advisory Committee Program Manager, PHH-4.

FOR FURTHER INFORMATION CONTACT: Lindsey Constantino, International Transportation Specialist (PHH-4), U.S. Department of Transportation, Pipeline and Hazardous Materials Safety Administration, 1200 New Jersey Avenue SE., East Building, 2nd Floor, Washington, DC 20590-0001, Telephone 202-366-0665, lithiumbatteryFACA@dot.gov.

SUPPLEMENTARY INFORMATION:

I. Advisory Committee Background

The Committee is a statutorily mandated advisory committee that provides a mechanism for:

(a) Facilitating communication among manufacturers of lithium ion and lithium metal cells and batteries, manufacturers of products incorporating both large and small lithium ion and lithium metal batteries, air carriers, and the Federal Government, regarding the safe transportation of lithium ion and lithium metal cells and batteries and the effectiveness and economic and social impacts of the regulation of such transportation.

(b) Providing the Secretary, the Federal Aviation Administration (FAA), and PHMSA with timely information about new lithium ion and metal battery technology and transportation safety practices and methodologies.

(c) Providing a forum for the Secretary to distribute information on this topic, as well as engage Committee members in discussions concerning the related activities of the Department of Transportation.

A complete list of duties for the Committee is outlined in section 333(d)(2) of the FAA Reauthorization Act of 2018. This committee is established in accordance with the Federal Advisory Committee Act, 5 U.S.C. App. 2.

II. Membership

The Committee will consist of representatives from:

(a) Large volume manufacturers of lithium ion and lithium metal cells and batteries;

(b) domestic manufacturers of lithium ion and lithium metal batteries or battery packs;

(c) manufacturers of consumer products powered by lithium ion and lithium metal batteries;

(d) manufacturers of vehicles powered by lithium ion and lithium metal batteries;

(e) marketers of products powered by lithium ion and lithium metal batteries;

(f) cargo air service providers based in the United States;

(g) passenger air service providers based in the United States;

(h) pilots and employees of air service providers described in bullets (f) and (g);

(i) shippers of lithium ion and lithium metal batteries for air transportation;

(j) manufacturers of battery-powered medical devices or batteries used in medical devices;

(k) employees of the Department of Transportation, including employees of FAA and PHMSA;

(l) representatives of such other Government departments and agencies as the Secretary determines appropriate; and

(m) any other individuals the Secretary determines are appropriate to comply with Federal law.

III. Terms of Participation

• All Group members must be able to attend a minimum of two meetings each year in Washington, DC, and other designated locations, or by teleconference.

• Members serve without compensation, although travel expenses, including per diem, may be eligible for reimbursement consideration based on budget availability.

• A member appointed for his or her individual views or advice must be appointed as a Special Government Employee (SGE). Other members will serve as Representatives or Regular Government Employees. SGEs are subject to certain Federal conflict of interest laws.

IV. Nomination Procedures

The PHMSA Administrator, on behalf of the Secretary, is seeking individual nominations for committee members, preferably executive level leadership, with diverse experiences and expertise in research and development; academia; human factors; lithium battery manufacturing; lithium battery testing; packaging manufacture and testing; air cargo safety; risk management; or other related experience in manufacturing or transporting lithium batteries by air. Any interested person may nominate one or more qualified individuals for membership on the Committee. Self-nominations are also accepted.

• Nominations must include a current, complete resume including business and home address, telephone number, email address, education, relevant professional or business experience, present occupation, and membership status in other working groups or advisory committees, past or present.

• Nominations must include a short biography identifying each nominee's qualifications and expertise.

• Nominations must include an indication of the category the individual nominated most identifies with, based on the list provided in paragraph II Membership. If an individual preforms functions in multiple categories, please choose the most relevant category.

• Nominations should highlight relevant experience on panels that have dealt with transportation safety, lithium battery safety, air transportation safety, or detail the nominee's interest in the subject matter that will be considered by the committee.

• Nominations must acknowledge that the nominee is aware of the nomination unless self-nominated.

Signed in Washington, DC, on May 8, 2019.
William S. Schoonover,
Associate Administrator, Pipeline and Hazardous Materials Safety Administration.

[FR Doc. 2019-09878 Filed 5-13-19; 8:45 am]

BILLING CODE 4910-60-P